FEDERAL MARITIME COMMISSION

[Petition No. P1-04]

Petition of Danzas Corporation d/b/a Danmar Lines Ltd., Danzas AEI Ocean Services, and DHL Danzas Air and Ocean for Exemption From the Tariff Publishing Requirements of Section 8 of the Shipping Act of 1984, as Amended; Notice of Filing

This is to provide notice of filing and to invite comments on or before February 13, 2004, with regard to the Petition described below.

Danzas Corporation d/b/a Danmar Lines Ltd., Danzas AEI Ocean Services, and DHL Danzas Air and Ocean (“Petitioner”) has petitioned, pursuant to section 16 of the Shipping Act of 1984, 46 U.S.C. app. 1715, for an exemption from the tariff publishing requirements of the Shipping Act in order to give Petitioner and its customers the discretion to negotiate individually structured, confidential contracts for the specific combination of services that best fulfills the customers' particular transportation requirements.

In order for the Commission to make a thorough evaluation of the Petition, interested persons are requested to submit comments on the Petition no later than February 13, 2004. Comments on this Petition shall consist of an original and 15 copies, be directed to the Secretary, Federal Maritime Commission, 800 North Capitol Street, NW., Washington, DC 20573-0001, and be served on Petitioner's counsel Carlos Rodriguez, Esq., Rodriguez O'Donnell Ross Fuerst Gonzalez & Williams, P.C., 1211 Connecticut Ave. NW., Suite 800 Washington, DC 20036. It is also requested that a copy of the comment be submitted in electronic form (WordPerfect, Word or ASCII) on diskette or emailed to Secretary@fmc.gov.

The Petition will be posted on the Commission's homepage at http://www.fmc.gov/Docket%20Log/Docket%20Log%20Index.htm. All comments on the Petition will also be posted on the Commission's homepage at this location.¹ Copies of the Petition also may be obtained by sending a request to the Office of the Secretary by regular mail, e-mail, or by calling (202) 523-5725.

¹ Copies of replies to Petition Nos. P3-03, P5-03, P7-03, P8-03 and P9-03 are also available on the Commission's homepage at the address listed above.

Interested parties may also make oral presentations in this proceeding. At the discretion of individual Commissioners, interested persons may request one-on-one meetings at which they may make presentations describing their views on the petition. All meetings shall be completed before the close of the comment period. A summary or transcript of each oral presentation will be included in the record and must be submitted to the Secretary of the Commission within 5 days of the meeting. Persons wishing to make oral presentations should contact the Office of the Secretary to secure contact names and numbers for individual Commissioners.

Comments submitted in response to this Notice shall be limited to the merits of this Petition. Commenters shall not use this as an opportunity to submit further comments or replies to the Notices issued in Petition Nos. P3-03, P5-03, P7-03, P8-03 and P9-03. The comment period in those Petitions closed January 16, 2004, and the Commission's rules at 46 CFR 502.74 prohibit replies to replies.

Parties participating in this proceeding may elect to receive service of the Commission's issuances in this proceeding through e-mail in lieu of service by U.S. mail. A party opting for electronic service shall advise the Office of the Secretary in writing and provide an e-mail address where service can be made. Such request should be directed to secretary@fmc.gov.

Bryant L. VanBrakle,
Secretary.

[FR Doc. 04-2075 Filed 2-2-04; 8:45 am]

BILLING CODE 6730-01-P